DEPARTMENT OF COMMERCE

Foreign-Trade Zones Board

[Docket 59-2010]

Proposed Foreign-Trade Zone—Greenup and Boyd Counties, Kentucky; Application and Public Hearing

An application has been submitted to the Foreign-Trade Zones Board (the Board) by the Greenup Boyd Riverport Authority to establish a general-purpose foreign-trade zone in Greenup and Boyd Counties, Kentucky, adjacent to the Charleston CBP port of entry. The application was submitted pursuant to the provisions of the Foreign-Trade Zones Act, as amended (19 U.S.C. 81a-81u), and the regulations of the Board (15 CFR part 400). It was formally filed on October 15, 2010. The applicant is authorized to make the proposal under the Kentucky Revised Statutes section 65.530.

The proposed zone would consist of one site covering 64 acres in Greenup County, Kentucky: Proposed Site 1 (64 acres)—Greenup Boyd Riverport Site located at 215 Pier One Drive, Wurtland. The site is owned by the Greenup Boyd Riverport Authority, Greenup and Boyd County Fiscal Courts, and Great Lakes Minerals, LLC.

The application indicates a need for zone services in the Greenup and Boyd Counties, Kentucky, area. Several firms have indicated an interest in using zone procedures for warehousing/distribution activities for a variety of products. Specific manufacturing approvals are not being sought at this time. Such requests would be made to the Board on a case-by-case basis.

In accordance with the Board's regulations, Elizabeth Whiteman of the FTZ Staff is designated examiner to evaluate and analyze the facts and information presented in the application and case record and to report findings and recommendations to the Board.

As part of the investigation, the Commerce examiner will hold a public hearing on November 5, 2010 at 9 a.m., at the Fiscal Court Room, beside the Greenup County Courthouse on Main Street, Greenup, Kentucky.

Public comment is invited from interested parties. Submissions (original and 3 copies) shall be addressed to the Board's Executive Secretary at the address below. The closing period for their receipt is December 20, 2010. Rebuttal comments in response to material submitted during the foregoing period may be submitted during the subsequent 15-day period to January 3, 2011.

A copy of the application will be available for public inspection at the Office of the Executive Secretary, Foreign-Trade Zones Board, Room 2111, U.S. Department of Commerce, 1401 Constitution Avenue, NW., Washington, DC 20230-0002, and in the “Reading Room” section of the Board's Web site, which is accessible via http://www.trade.gov/ftz.

For further information, contact Elizabeth Whiteman at Elizabeth.Whiteman@trade.gov or (202) 482-0473.

Dated: October 15, 2010.
Andrew McGilvray,
Executive Secretary.

[FR Doc. 2010-26420 Filed 10-19-10; 8:45 am]

BILLING CODE P